DEPARTMENT OF HEALTH AND HUMAN SERVICES

Centers for Disease Control and Prevention

Disease, Disability, and Injury Prevention and Control Special Emphasis Panel: NIOSH Education and Research Center, Program Announcement Number (PAR) 06-485

In accordance with section 10(a)(2) of the Federal Advisory Committee Act (Pub. L. 92-463), the Centers for Disease Control and Prevention (CDC) announces the following Meeting of the aforementioned Special Emphasis Panel:

Time and Date: 10 a.m.-1 p.m., April 24, 2007 (Closed).

Place: Teleconference.

Status: The meeting will be closed to the public in accordance with provisions set forth in section 552b(c)(4) and (6), Title 5 U.S.C., and the Determination of the Director, Management Analysis and Services Office, CDC, pursuant to Public Law 92-463.

Purpose: The work groups which were convened at specific sites listed below advised and made recommendations to the Disease, Disability, and Injury Prevention and Control SEP: NIOSH Education and Research Center, PAR 06-485. Specifically, the SEP makes recommendations regarding policies, strategies, and funding.

Times, Dates, and Places of the Work Group Meetings
8 a.m.-5 p.m. | November 13, 2006 (Closed) | Women's Faculty Club on the University of California Berkeley campus 510-642-4175.
8 a.m.-5 p.m. | November 28, 2006 (Closed) | University of Alabama at Birmingham, Administration Building Penthouse, 701 20th Street South, 14th floor, Conference Room 1, 205-934-0771.
8 a.m.-5 p.m. | December 11, 2006 (Closed) | Bloomberg School of Public Health, 615 N. Wolfe St, Baltimore, MD 21205.
8 a.m.-5 p.m. | December 14, 2006 (Closed) | College of Public Health 13201 Bruce B. Downs Blvd Tampa, FL 33612.
8 a.m.-5 p.m. | January 9, 2007 (Closed) | Fitzsimons Campus, Nighthorse Campbell Building. Room 304 Denver, CO.
8 a.m.-5 p.m. | January 16, 2007 (Closed) | Coffman Memorial Union 300 Washington Ave. SE Minneapolis, MN 55455.
8 a.m.-5 p.m. | February 13, 2007 (Closed) | University Park Marriott 480 Wakara Way Salt Lake City, UT 84108 801-584-3312.

Matters to be Discussed: The SEP meeting will include the review, discussion, and evaluation of research grant applications in response to “NIOSH Education and Research Center,” PAR 06-485.

For Further Information Contact: Dr. Charles N. Rafferty, Ph.D., B.S., Scientific Review Administrator, 1600 Clifton Road NE, MS E74, Atlanta, GA, 30333, telephone 404.498.2582.

The Director, Management Analysis and Services Office, has been delegated the authority to sign Federal Register notices pertaining to announcements of meetings and other committee management activities, for both CDC and the Agency for Toxic Substances and Disease Registry.

Dated: April 3, 2007.
Diane Allen,
Acting Director, Management Analysis and Services Office, Centers for Disease Control and Prevention.

[FR Doc. E7-6591 Filed 4-6-07; 8:45 am]

BILLING CODE 4163-18-P